DEPARTMENT OF ENERGY

Federal Energy Regulatory Commission

Notice of Staff Attendance at North American Electric Reliability Corporation Standard Drafting Meeting

The Federal Energy Regulatory Commission hereby gives notice that members of the Commission and/or Commission staff may attend the following meetings:

North American Electric Reliability Corporation Standards Committee Teleconference WebEx Meeting

April 19, 2023 | 1 p.m.-3 p.m. Eastern

Further information regarding these meetings may be found at: http://www.nerc.com/Pages/Calendar.aspx.

The discussions at the meetings, which are open to the public, may address matters at issue in the following Commission proceeding:

Docket No. RD23-1-000: Extreme Cold Weather Reliability Standards EOP-011-3 and EOP-012-1

Docket Nos. RD22-4-000, RD22-4-001: Registration of Inverter-Based Resources

For further information, please contact Chanel Chasanov, 202-502-8569, or chanel.chasanov@ferc.gov.

Dated: April 12, 2023.
Debbie-Anne A. Reese,
Deputy Secretary.

[FR Doc. 2023-08160 Filed 4-17-23; 8:45 am]

BILLING CODE 6717-01-P